FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than August 20, 2020.

A. Federal Reserve Bank of Richmond (Adam M. Drimer, Assistant Vice President) 701 East Byrd Street, Richmond, Virginia 23219. Comments can also be sent electronically to or Comments.applications@rich.frb.org:

1. The Vanguard Group, Inc., and its subsidiaries and affiliates, Malvern, Pennsylvania; to acquire additional voting shares of E*TRADE Financial Corporation, and thereby, indirectly acquire additional voting shares of E*TRADE Bank, both in Arlington, Virginia.

B. Federal Reserve Bank of Kansas City (Dennis Denney, Assistant Vice President) 1 Memorial Drive, Kansas City, Missouri 64198-0001:

1. The Vanguard Group, Inc., and its subsidiaries and affiliates, Malvern, Pennsylvania; for the Vanguard funds to acquire additional voting shares of Commerce Bancshares, Inc., and thereby, indirectly acquire additional voting shares of Commerce Bank, both in Kansas City, Missouri.

C. Federal Reserve Bank of Dallas (Robert L. Triplett III, Senior Vice President) 2200 North Pearl Street, Dallas, Texas 75201-2272:

1. David Lynn Davis and the Estate of James Lee Davis, both of Midland, Texas; Sandra Davis Maddox, as co-executor of the Estate of James Lee Davis, Dallas, Texas; all individually and together with Nancy Chandler Davis and the Estate of Michael Keith Davis, both of Midland, Texas; to join a family group acting in concert to retain voting shares of First West Texas Bancshares, Inc., and thereby, indirectly retain voting shares of West Texas National Bank, both of Midland, Texas.

Board of Governors of the Federal Reserve System, July 31, 2020.
Yao-Chin Chao,
Assistant Secretary of the Board.

[FR Doc. 2020-17069 Filed 8-4-20; 8:45 am]

BILLING CODE P